DEPARTMENT OF THE INTERIOR

Bureau of Land Management

[AZ-030-5101-00-A199; AZA 017002]

Notice of Application, Arizona

AGENCY: Bureau of Land Management, Interior.

ACTION: Notice of application.

SUMMARY: In accordance with regulations found at 43 CFR 2882.3 (b) the Bureau of Land Management has received a right-of-way application from Red Lake Gas Storage L.P. (Red Lake). Red Lake proposes to construct an underground natural gas storage facility on private lands approximately 30 miles north of Kingman, Arizona. The storage facility would consist of two solution mined salt caverns and appurtenant facilities. Portions of the project would affect public lands administered by the Bureau of Land Management (BLM), Kingman Field Office. Subsequently, Red Lake has submitted an application requesting a right-of-way for a 30-mile-long natural gas pipeline (36-inch diameter), access road, brine disposal pipeline (18-inch diameter), interconnect facility/meter station (5.0 acres), and extra work space during construction (8.01 acres).

Interested parties may view the application at the BLM, Kingman Field Office located at 2475 Beverly Avenue, Kingman, Arizona. The office hours are 7:30 a.m. to 4:30 p.m. Monday through Friday. The application may also be viewed at the Kingman Public Library located at 3269 N. Burbank Street, Kingman, Arizona. The Library hours are: Monday, Friday and Saturday from 10 a.m. to 6 p.m.; Tuesday from 9 a.m. to 8 p.m.; Wednesday from 10 a.m. to 8 p.m.; Thursday from 9 a.m. to 6 p.m.

FOR FURTHER INFORMATION CONTACT: Lucas Lucero, 602-417-9532.

Dated: December 19, 2002.
Ruben Sanchez,
Acting Field Manager.

[FR Doc. 03-3770 Filed 2-14-03; 8:45 am]

BILLING CODE 4310-32-P